DEPARTMENT OF ENERGY

Office of Arms Control and Nonproliferation; Proposed Subsequent Arrangement

AGENCY: Department of Energy.

ACTION: Notice of subsequent arrangement.

SUMMARY: This notice is being issued under the authority of section 131, of the Atomic Energy Act of 1954, as amended (42 U.S.C. 2160). The Department is providing notice of a proposed “subsequent arrangement” under the Agreement for Cooperation Between the Government of the United States of America and the Government of the Republic of Korea Concerning Civil Uses of Atomic Energy and the Agreement for Cooperation Concerning Civil Uses of Atomic Energy between the United States and Canada.

This subsequent arrangement concerns the retransfer of DUPIC fuel elements, containing 5,085 g uranium enriched to 1.08 per cent uranium-235 and 40 g plutonium from the Korea Atomic Energy Research Institute (KAERI) to the Chalk River Laboratories, Chalk River, Ontario, Canada. The DUPIC fuel elements, currently located at KAERI's Taejon, Korea facility, were manufactured using spent PWR fuel at KAERI. KAERI intends to use the fuel elements for irradiation tests in the NRU research reactor operated by Chalk River Laboratories.

In accordance with section 131, of the Atomic Energy Act of 1954, as amended, we have determined that this subsequent arrangement will not be inimical to the common defense and security.

This subsequent arrangement will take effect no sooner than fifteen days after the publication of this notice.

Dated: March 22, 2002.
For the Department of Energy.
Trisha Dedik,
Director, Office of Nonproliferation Policy.

[FR Doc. 02-7439 Filed 3-27-02; 8:45 am]

BILLING CODE 6450-01-P